DEPARTMENT OF HOMELAND SECURITY

Federal Emergency Management Agency

44 CFR Part 67

[Docket ID FEMA-2008-0020 and FEMA-2010-0003; Internal Agency Docket Nos. FEMA-B-1069 and B-1122]

Proposed Flood Elevation Determinations for Fairbanks North Star Borough, Alaska, and Incorporated Areas

AGENCY: Federal Emergency Management Agency, DHS.

ACTION: Proposed rule; withdrawal.

SUMMARY: The Federal Emergency Management Agency (FEMA) is withdrawing its proposed rule concerning proposed flood elevation determinations for Fairbanks North Star Borough, Alaska, and Incorporated Areas.

DATES: This withdrawal is effective on October 10, 2012.

ADDRESSES: You may submit comments, identified by Docket Nos. FEMA-B-1069 and B-1122, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On September 15, 2009 and May 25, 2010, FEMA published a proposed rulemaking at 74 FR 47169 and 75 FR 29296, proposing flood elevation determinations along one or more flooding sources in Fairbanks North Star Borough, Alaska. FEMA is withdrawing the proposed rulemaking and intends to publish a Notice of Proposed Flood Hazard Determinations in the Federal Register and a notice in the affected community's local newspaper following issuance of a revised preliminary Flood Insurance Rate Map and Flood Insurance Study report.

Authority: 42 U.S.C. 4104; 44 CFR 67.4.

Dated: September 14, 2012.
Sandra K. Knight,
Deputy Associate Administrator for Mitigation, Department of Homeland Security, Federal Emergency Management Agency.

[FR Doc. 2012-24855 Filed 10-9-12; 8:45 am]

BILLING CODE 9110-12-P